SMALL BUSINESS ADMINISTRATION

Public Federal Regulatory Enforcement Fairness Hearing; Region IX Regulatory Fairness Board

Pursuant to the Federal Advisory Committee Act, Appendix 2 of title 5, United States Code, Public Law 92-463, notice is hereby given that the U.S. Small Business Administration (SBA) Region IX Regulatory Fairness Board and the SBA Office of the National Ombudsman will hold a National Regulatory Fairness Hearing on Thursday, June 14, 2007, at 10 a.m. The forum will take place at the U.S. Small Business Administration, Los Angeles District Office, 330 North Brand Boulevard, Suite 1200, Glendale, CA 91203. The purpose of the meeting is for Business Organizations, Trade Associations, Chambers of Commerce and related organizations serving small business concerns to report experiences regarding unfair or excessive Federal regulatory enforcement issues affecting their members.

Anyone wishing to attend or to make a presentation must contact Natalie Orta, in writing or by fax in order to be placed on the agenda. Natalie Orta, Chief, Economic Development, SBA, Los Angeles District Office, 330 North Brand Blvd., Suite 1200, Glendale, CA 91203, phone (818) 552-3291 and fax (202) 481-4720, e-mail: Natalie.orta@sba.gov.

For more information, see our Web site at www.sba.gov/ombudsman.

Matthew Teague,
Committee Management Officer.

[FR Doc. E7-10460 Filed 5-30-07; 8:45 am]

BILLING CODE 8025-01-P